FEDERAL COMMUNICATIONS COMMISSION

[Report No. 2466]

Petitions for Reconsideration of Action in Rulemaking Proceeding

February 20, 2001.

Petitions for Reconsideration have been filed in the Commission's rulemaking proceeding listed in this Public Notice and published pursuant to 47 CFR Section 1.429(e). The full text of these documents are available for viewing and copying in Room CY-A257, 445 12th Street, SW., Washington, DC or may be purchased from the Commission's copy contractor, ITS, Inc (202) 857-3800. Oppositions to these petitions must be filed by March 14, 2001. See Section 1.4(b)(1) of the Commission's rules (47 CFR 1.4(b)(1)). Replies to an opposition must be filed within 10 days after the time for filing oppositions has expired.

Subject: Promotion of Competitive Networks In Local Telecommunications Markets (WT Docket No. 99-217).

Wireless Communications Association International, Inc Petition for Rulemaking to Amend Section 1.4000 of the Commission's Rules to Preempt Restrictions on Subscriber Premises Reception or Transmission Antennas Designed To Provide Fixed Wireless Services.

Cellular Telecommunications Industry Association Petition for Rulemaking and Amendment of the Commission's Rules to Preempt State and Local Imposition of Discriminatory And/Or Excessive Taxes and Assessments.

Implementation of the Local Competition Provisions in the Telecommunications Act of 1996 (CC Docket No. 96-98).

Review of Sections 68.104, and 68.213 of the Commission's Rules Concerning Connection of Simple Inside Wiring to the Telephone Network (CC Docket No. 88-57).

Number of Petitions Filed: 10.

Subject: Amendment of Section 73.202(b), Table of Allotments, FM Broadcast Stations. (Mount Pleasant & Bogata, Texas) (MM Docket No. 00-54, RM-9835, RM-9907).

Number of Petitions Filed: 1.

Federal Communications Commission.
Magalie Roman Salas,
Secretary.

[FR Doc. 01-4722 Filed 2-26-01; 8:45 am]

BILLING CODE 6712-01-M